DEPARTMENT OF THE INTERIOR

Bureau of Land Management

[14X LLIDB00200 LF2200000.JS0000 LFESHUJ60000]

Notice of Temporary Closure on Public Lands in Elmore County, ID

AGENCY: Bureau of Land Management, Interior.

ACTION: Notice of Temporary Closure.

SUMMARY: Notice is hereby given that the Pony and Elk fires temporary closures to motorized vehicles and winter uses are in effect on public lands administered by the Four Rivers Field Office, Bureau of Land Management (BLM).

DATES: The temporary motorized vehicle closure will be in effect on February 25, 2014 and will remain in effect for up to 3 years, or until rescinded or modified by the authorized officer, whichever comes first. The all-entry closure will be in effect January 1 through April 30, 2014, and January 1 through April 30, 2015. Depending on the rate of recovery of the area and condition of the wintering elk and mule deer populations, the all-entry closure may be unnecessary in 2015.

FOR FURTHER INFORMATION CONTACT: Terry Humphrey, Four Rivers Field Manager, at 3948 Development Avenue, Boise, ID 83705, via email at thumphrey@blm.gov, or phone 208-384-3430. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION: The temporary closures affect BLM-administered lands burned August 8-31, 2013, by the Pony and Elk fires, located approximately 10 miles north of Mountain Home, Idaho. The parcels of public lands affected by these closures, depicted on the Pony and Elk Fires Temporary Closure Area Map, dated September 26, 2013, located at the Boise District BLM Office in Boise, Idaho, are situated in portions of:

T. 1 N., R. 4 E., section 1;

T. 1 N., R. 5 E., sections 1, 4, 7, 12, 13 (inclusive), 14, 18, 22, 23, 24 (inclusive), 25, 26, 27 and 28;

T. 1 N., R. 6 E., sections 6, 7, 19, 20, 29, 30, 31, 32 (inclusive), and 33 (inclusive);

T. 1 N., R. 8 E., section 30;

T. 1 N., R. 9 E., sections 1 (inclusive) and 12;

T. 2 N., R. 4 E., sections 24 and 25;

T. 2 N., R. 5 E., sections 29, 30, 31, 32, 33, and 35;

T. 2 N., R. 10 E., sections 8, 18, and 19;

T. 1 S., R. 5 E., section 1;

T. 1 S., R. 6 E., sections 1 (inclusive), 2, 3, 4, 5, 6, 7, 8, 9 (inclusive), 10, 11-12 (inclusive), 13, 14 (inclusive), 17, 20, 22, 23 (inclusive), 24, 25, 26, 27, 28, 33, 34, and 35;

T. 1 S., R. 7 E., sections 4 (inclusive), 5, 6-9 (inclusive), 13, 14, 17, 18, 19, 20, 21, 22, 23, 24, 25, 26, 27, 28 (inclusive), 29, 30, 31, 32, 33-34 (inclusive), and 35;

T. 1 S., R. 8 E., sections 6, 27, and 31;

T. 2 S., R. 6 E., sections 1, 2-3 (inclusive), 4, 9, 10, 11, 12, and 13;

T. 2 S., R. 7 E., sections 1-4 (inclusive), 5, 6-9 (inclusive), 10, 11 (inclusive), 12, 13, 14, 15, 17, 18, 21, 22, 23, 24, 25, 26, and 27;

T. 2 S., R. 8 E., sections 4, 5, 6 (inclusive), 7, 8 (inclusive), 9, 15, 17-18 (inclusive), 19, 20, 21, and 30; Boise Meridian, Idaho.

The temporary closure area described herein encompasses approximately 54,200 acres in Elmore County, Idaho. The closures are intended to protect critical winter habitat for elk and mule deer as well as important year-long sage-grouse habitat. The motorized vehicle closure will help to slow the spread of noxious weeds; allow planted shrub, forb, and grass species to become established; and allow existing plants to recover. The all-entry closure will reduce human disturbance to wintering elk and mule deer. The closures will help ensure the long-term viability of habitat for wildlife populations in the area. The BLM will post closure signs at gates, main access points, key perimeter locations and main entry points to the closed areas. The closure notice will also be posted in the Boise District BLM office. Maps of the affected area and other documents associated with this closure are available at the Boise District BLM Office, 3948 Development Avenue, Boise, Idaho 83705 and on the BLM Idaho Web site http://www.blm.gov/id/st/en/advisories-closures.html. Under the authority of Section 303(a) of the Federal Land Policy and Management Act of 1976 (43 U.S.C. 1733(a)), 43 CFR 8360.0-7, and 43 CFR 8364.1, the BLM will enforce the following rules within the closure:

Throughout the temporary closure period, motorized vehicles must not be used within the closed area.

Motorized vehicles are allowed within the closed area on Idaho State Highway 20, the Long Tom Reservoir Road, and roads maintained by the Mountain Home and Glenns Ferry Highway Districts.

Between January 1, 2014, and April 30, 2014, and January 1, 2015, and April 30, 2015, no unauthorized persons will be allowed in the closed area except on the aforementioned roads.

Exemptions: The following persons are exempt from this order: Federal, State, and local officers and employees in the performance of their official duties; members of organized rescue or fire-fighting forces in the performance of their official duties; and persons with written authorization from the BLM.

Penalties: Any person who violates the above rule may be tried before a United States Magistrate and fined, not to exceed $1,000, imprisoned for no more than 12 months, or both. Violators may also be subject to the enhanced fines provided for in 18 U.S.C. 3571.

Authority: 43 CFR 8360.0-7; 43 CFR 8364.1

Terry Humphrey,
Four Rivers Field Manager.

[FR Doc. 2014-04052 Filed 2-24-14; 8:45 am]

BILLING CODE 4310-GG-P